DEPARTMENT OF TRANSPORTATION

Federal Aviation Administration

14 CFR Parts 437

[Docket No. FAA-2006-24197; Amendment Nos. 401-5, 404-4, 405-3, 406-4, 413-9, 420-3, 431-2, 437-0]

Experimental Permits for Reusable Suborbital Rockets

AGENCY: Federal Aviation Administration, DOT.

ACTION: Notice of Office of Management and Budget Approval for Information Collection.

SUMMARY: This notice announces the Office of Management and Budget's (OMB) approval of the information collection requirement in the final rule published April 6, 2007 (72 FR 17001). The sections of the final rule pending approval of this information collection request are effective on publication of this notice.

DATES: The FAA received OMB approval for the information collection requirement in the Final Rule published on April 6, 2007. The compliance date for information collection requirements in 14 CFR 437.21, 437.25, 437.27, 437.29, 437.31, 437.37, 437.41, 437.53, 437.55, 437.57, 437.59, 437.69, and 437.89 is Augusst 31, 2007.

FOR FURTHER INFORMATION CONTACT: Randy Repcheck, Office of Commercial Space Transportation, Federal Aviation Administration, 800 Independence Avenue, SW., Washington, DC 20591; telephone: (202) 267-8760; facsimile: (202) 267-5463; e-mail: randy.repcheck@faa.gov.

SUPPLEMENTARY INFORMATION:

Background

On April 6, 2007, the FAA published the final rule, “Experimental Permits for Reusable Suborbital Rockets,” in the Federal Register. The rule established application requirements for an operator of a manned or unmanned reusable suborbital rocket to obtain an experimental permit. The FAA also established operating requirements and restrictions on launch and re-entry of reusable suborbital rockets operated under a permit. The requirements above are in Title 14 of the Code of Federal Regulations parts 401, 404, 405, 406, 413, 415, 420, 431, and 437.

We noted, in the “Paperwork Reduction Act” section of the final rule, that affected parties did not need to comply with the information collection requirements of the rule until the Office of Management and Budget (OMB) approved the FAA's request to collect the information.

In accordance with the Paperwork Reduction Act, OMB approved the FAA's request for new information collection on June 1, 2007, and assigned the information collection OMB Control Number 2120-0722. The control number was not available when the final rule was published, thus necessitating publication of this notice. The FAA request was approved by OMB without change and expires on June 30, 2010.

49 U.S.C. 106(g), 40113, 40119, 41706, 44101, 44701-44702, 44705, 44709-44711, 44713, 44716-44717, 44722, 46105, grants authority to the Administrator to publish this notice. The final rule (72 FR 17001) became effective on June 5, 2007, and the compliance date for information collection requirements in 14 CFR 437.21, 437.25, 437.27, 437.29, 437.31, 437.37, 437.41, 437.53, 437.55, 437.57, 437.59, 437.69, and 437.89 is August 31, 2007.

Issued in Washington, DC on August 24, 2007.
Pamela Hamilton-Powell,
Director, Office of Rulemaking.

[FR Doc. E7-17368 Filed 8-30-07; 8:45 am]

BILLING CODE 4910-13-P